DEPARTMENT OF COMMERCE

National Oceanic and Atmospheric Administration

RIN 0648-XF56

Marine Mammals; File No. 605-1904

AGENCY: National Marine Fisheries Service (NMFS), National Oceanic and Atmospheric Administration (NOAA), Commerce.

ACTION: Notice; issuance of permit.

SUMMARY: Notice is hereby given that Whale Center of New England (Mason Weinrich, Principal Investigator), P.O. Box 159, Gloucester, MA 01930 has been issued a permit to conduct research on humpback (Megaptera novaeangliae), fin (Balaenoptera physalus), and sei (Balaenoptera borealis) whales.

ADDRESSES: The permit and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727) 824-5312; fax (727) 824-5309.

FOR FURTHER INFORMATION CONTACT: Amy Hapeman or Jaclyn Daly, (301) 713-2289.

SUPPLEMENTARY INFORMATION: On March 7, 2007, notice was published in the Federal Register (72 FR 10170) that a request for a scientific research permit to take humpback, fin, and sei whales had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 605-1904, issued to The Whale Center of New England, allows for the harassment of humpback, fin, and sei whales along the U.S. Atlantic coast to: 1) continue population monitoring; 2) determine whether humpback whale life history parameters change with their population status; 3) determine the importance of Jeffrey's Ledge as an aggregation area; 4) determine how humpback and fin whales relate to their prey and use the environment; 5) develop an aging technique from biopsy samples; and 6) determine the effect that prey resources have on the distribution, behavior and social organization of whales. The permit authorizes the close approach of 400 humpback, 250 fin, and 100 sei whales for vessel surveys, photo-identification, tracking, and incidental harassment annually. The permit also authorizes the biopsy sampling of 115 humpback, 95 fin, and 25 sei whales annually during such approaches. For humpback and fin whales, up to 20 samples for each species may be collected annually from young calves at least 3 months old. During approaches, researchers may suction-cup tag 40 humpback, 20 fin, and 25 sei whales greater than six months of age annually. The permit is issued for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: February 21, 2008.
P. Michael Payne,
Chief, Permits, Conservation and Education Division, Office of Protected Resources, National Marine Fisheries Service.

[FR Doc. E8-3838 Filed 2-27-08; 8:45 am]

BILLING CODE 3510-22-S